FEDERAL MARITIME COMMISSION

[Docket No. 25-09]

QVC, Inc. and Cornerstone Brands, Inc., Complainants v. Ocean Network Express Pte. Ltd., Respondent; Notice of Filing of Complaint and Assignment

Served: June 17, 2025.

Notice is given that a complaint has been filed with the Federal Maritime Commission (the “Commission”) by QVC, Inc. and Cornerstone Brands, Inc. (the “Complainants”) against Ocean Network Express Pte. Ltd. (the “Respondent”). Complainants state that the Commission has subject-matter jurisdiction over the complaint pursuant to the Shipping Act of 1984, as amended, 46 U.S.C. 40101 et seq., and personal jurisdiction over Respondent as an ocean common carrier, as defined in 46 U.S.C. 40102(18), that has entered into a service contract, as defined in 46 U.S.C. 40102(21), with Complainants.

Complainant QVC, Inc. is a corporation existing under the laws of the State of Delaware with its principal place of business located in West Chester, Pennsylvania.

Complainant Cornerstone Brands, Inc. is a corporation existing under the laws of the State of Delaware with its principal place of business located in West Chester, Ohio.

Complainants identify Respondent as a company existing under the laws of Singapore with its principal place of business in Singapore, whose agent in the United States is Ocean Network Express (North America) Inc., a company existing under the laws of the Commonwealth of Virginia with its principal place of business in Richmond, Virginia.

Complainants allege that Respondent violated 46 U.S.C. 41102(c); 41104(a)(2) and (a)(10); and 46 CFR 545.5. Complainants allege these violations arose from a practice of systematically failing to meet service commitments, the use of coercion to require payment of extracontractual surcharges prior to performance of service commitments and to require amendments to service contracts, an unreasonable assessment of demurrage and detention charges, and other acts or omissions of the Respondents.

An answer to the complaint must be filed with the Commission within 25 days after the date of service.

The full text of the complaint can be found in the Commission's electronic Reading Room at https://www2.fmc.gov/readingroom/proceeding/25-09/. This proceeding has been assigned to the Office of Administrative Law Judges. The initial decision of the presiding judge shall be issued by June 17, 2026, and the final decision of the Commission shall be issued by December 31, 2026.

David Eng,
Secretary.

[FR Doc. 2025-11369 Filed 6-18-25; 8:45 am]

BILLING CODE P